DEPARTMENT OF COMMERCE

National Institute of Standards and Technology

[Docket Number: 040910260-4260-01]

Solicitation of Letters of Interest to Form Participating Research Teams at the NIST Center for Neutron Research

AGENCY: National Institute of Standards and Technology, Commerce.

ACTION: Notice.

SUMMARY: The National Institute of Standards and Technology (NIST) Center for Neutron Research (NCNR) announces its intent to form partnerships, called “Participating Research Teams” (PRT's), to develop and apply advanced cold and thermal neutron beam measurement capabilities at the NCNR to assist crucial and timely U.S. R&D directed toward the production of next-generation fuel cells, hydrogen storage systems, and related materials and components. The NCNR/NIST is therefore soliciting letters of interest in forming PRT's, which will be open to one or more U.S. companies, universities, or government agencies. Participation by the NCNR/NIST is permissible if desired by the PRT and the NCNR/NIST.

DATES: Letters of interest will be received on an ongoing basis until further notice.

ADDRESSES: Interested parties should send letters to Dr. Patrick D. Gallagher, Director, NIST Center for Neutron Research, 100 Bureau Drive, Gaithersburg, MD 20899-8560, or via e-mail to Patrick.Gallagher@nist.gov.

SUPPLEMENTARY INFORMATION: The NIST Center for Neutron Research (NCNR), which is located at the National Institute of Standards and Technology in Gaithersburg, MD, intends to form partnerships, called “Participating Research Teams” (PRT's), to develop and apply advanced cold and thermal neutron beam measurement capabilities at the NCNR to assist crucial and timely U.S. R&D directed toward the production of next-generation fuel cells, hydrogen storage systems, and related materials and components. The partnership agreements will be based upon the statutory technology transfer authorities available to NIST, including the Federal Technology Transfer Act. Under these partnerships, new or existing NCNR neutron-imaging and neutron-scattering instrumentation, which are uniquely sensitive to the transport, behavior, and nanoscale properties of hydrogen and hydrogenous materials, would be developed or upgraded and modified to permit the study of critical materials and devices under conditions that are directly relevant to their use and performance in technological applications.

Organizations participating in a PRT would share the costs of developing and constructing neutron instrumentation and their subsequent operation. In return, PRT members would share access to a portion of the total time available on the capabilities developed under the partnership. At the same time, at least 25% of the total time would be made available to non-PRT U.S. organizations on a competitive, merit-based basis.

The modes of PRT access could be tailored for either individual or joint research, and the subsequent data would be made available to the U.S. science and technology community through open publication in archived and peer-reviewed journals, or in publicly available reports. Proprietary research would require separate approval and the payment of suitable charges by the partnership organizations to assure full cost recovery to the Government, including a commensurate share of the operating expenses of the NCNR.

PRT's will be open to one or more U.S. companies, universities, or government agencies. It is anticipated that PRT agreements will be established for a three-year period, with renewal subject to the requirements and interests of the partnership and the NIST/NCNR. Proposals for PRT's will be evaluated by an internal panel of NCNR/NIST staff on the basis of technical merit, level of effort, and the statutory mission of NIST and final approval of PRT agreements will be made by the Director, NCNR.

Dated: November 3, 2004.
Hratch G. Semerjian,
Acting Director.

[FR Doc. 04-24941 Filed 11-8-04; 8:45 am]

BILLING CODE 3510-13-P